FEDERAL COMMUNICATIONS COMMISSION

47 CFR Part 54

[CC Docket No. 96-45; DA 03-2690]

Certifications Required Pursuant to the Children's Internet Protection Act; Approval of FCC Forms 486 and 479 by the Office of Management and Budget

AGENCY: Federal Communications Commission.

ACTION: Final rule; announcement of effective date.

SUMMARY: This document announces the effective date of the amendments to our rules implementing the revised FCC Form 486 (Receipt of Service Confirmation) and the revised FCC Form 479 (Certification by Administrative Authority to Billed Entity of Compliance with Children's Internet Protection Act (CIPA)) and instructions have been approved by the Office of Management and Budget (OMB). The Order in CC Docket No. 96-45 was published in the Federal Register on August 8, 2003.

DATES: The final rule amending 47 CFR Part 54, published on August 8, 2003 (68 FR 47253), became effective on August 14, 2003.

FOR FURTHER INFORMATION CONTACT: Jennifer Schneider, Attorney, Wireline Competition Bureau, Telecommunications Access Policy Division, (202) 418-7400, TTY: (202) 418-0484.

SUPPLEMENTARY INFORMATION: This is a summary of the Commission's Public Notice, CC Docket No. 96-45, released August 19, 2003. The Wireline Competition Bureau announces that the revised FCC Form 486 (Receipt of Service Confirmation) and the revised FCC Form 479 (Certification by Administrative Authority to Billed Entity of Compliance with Children's Internet Protection Act (CIPA)) and instructions have been approved by the Office of Management and Budget (OMB). Accordingly, the effective date of the Order is August 14, 2003. See 68 FR 47253, August 8, 2003.

On August 14, 2003, OMB approved the information collections. See OMB No. 3060-0853.

List of Subjects in 47 CFR Part 54

Reporting and recordkeeping requirement, Telecommunications, Telephone.

Federal Communications Commission.
Marlene H. Dortch,
Secretary.

[FR Doc. 03-22368 Filed 9-2-03; 8:45 am]

BILLING CODE 6712-01-P